COMMITTEE FOR THE IMPLEMENTATION OF TEXTILE AGREEMENTS

Determination Under the Textile and Apparel Commercial Availability Provision of the Dominican Republic-Central America-United States Free Trade Agreement (“CAFTA-DR Agreement”)

AGENCY: The Committee for the Implementation of Textile Agreements.

ACTION: Determination to remove a product currently on Annex 3.25 of the CAFTA-DR Agreement.

DATES: Effective Date: February 20, 2012.

SUMMARY: The Committee for the Implementation of Textile Agreements (“CITA”) has determined that an acceptable substitute for certain compacted, plied, ring spun cotton yarns, as specified below, is available in the CAFTA-DR countries in commercial quantities in a timely manner. The product, which is currently on the list in Annex 3.25 of the CAFTA-DR Agreement in unrestricted quantities, will be removed, effective 180 days after publication of this notice.

FOR FURTHER INFORMATION CONTACT: Maria Dybczak, Office of Textiles and Apparel, U.S. Department of Commerce, (202) 482-3651.

For Further Information On-Line: http://web.ita.doc.gov/tacgi/CaftaReqTrack.nsf under “Approved Requests,” Reference number: 156.2011.07.20.Yarn.ParkdaleMillsandBuhlerQualityYarns.

SUPPLEMENTARY INFORMATION:

Authority: The CAFTA-DR Agreement; Section 203(o)(4) of the Dominican Republic-Central America-United States Free Trade Agreement Implementation Act (“CAFTA-DR Implementation Act”), Public Law 109-53; the Statement of Administrative Action, accompanying the CAFTA-DR Implementation Act; and Presidential Proclamations 7987 (February 28, 2006) and 7996 (March 31, 2006).

Background

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. Pursuant to this authority, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200 (September 15, 2008)) (“CITA's procedures”).

On July 20, 2011, the Chairman of CITA received a request from Parkdale Mills and Buhler Quality Yarns for a Commercial Availability determination to remove or restrict (“Request”) certain compacted, plied, ring spun cotton yarns, currently on Annex 3.25. Parkdale Mills and Buhler Quality Yarns offered to supply yarns substitutable for the specified yarns and provided documentation demonstrating their ability to supply commercial quantities in a timely manner. On July 22, 2011, in accordance with CITA's procedures, CITA notified interested parties of the Request, which was posted on the dedicated Web site for CAFTA-DR Commercial Availability proceedings. In its notification, CITA advised that any Response to the Request (“Response”) must be submitted by August 3, 2011, and any Rebuttal Comments to a Response (“Rebuttal”) must be submitted by August 9, 2011, in accordance with Sections 6, 7 and 9 of CITA's procedures. No interested entity submitted a Response advising CITA of its objection to the Request.

In accordance with section 203(o)(4)(C) of the CAFTA-DR Implementation Act, Section 8(a) and (b), and Section 9(c)(1) of CITA's procedures, as no interested entity submitted a Response objecting to the Request, CITA has determined to remove the subject product from Annex 3.25. Pursuant to Section 9(c)(3)(iii)(A), textile and apparel articles containing the subject product are not to be treated as originating in a CAFTA-DR country if the subject product is obtained from non-CAFTA-DR sources, effective for goods entered into the United States on or after 180 calendar days after the date of publication of this notice. A revised list in Annex 3.25, noting the effective date of the removal of the subject product, has been posted on the dedicated Web site for CAFTA-DR Commercial Availability proceedings.

Specifications: Certain Compacted, Plied, Ring Spun Cotton Yarns

Compacted, plied, ring spun cotton yarns, with yarn counts in the range from 42 to 102 metric, classified in subheadings 5205.42.0020, 5205.43.0020, 5205.44.0020, 5205.46.0020, and 5205.47.0020 of the Harmonized Tariff Schedule of the United States (HTSUS)

Kim Glas,
Chairman, Committee for the Implementation of Textile Agreements.

[FR Doc. 2011-21561 Filed 8-22-11; 8:45 am]

BILLING CODE 3510-DS-P